DEPARTMENT OF TRANSPORTATION

National Highway Traffic Safety Administration

[Docket No. NHTSA-2020-0035; Notice 2]

Hankook Tire America Corp., Receipt of Petition for Decision of Inconsequential Noncompliance

AGENCY: National Highway Traffic Safety Administration (NHTSA), Department of Transportation (DOT).

ACTION: Grant of petition.

SUMMARY: Hankook Tire America Corp. (Hankook) has determined that certain Hankook Ventus S1 Noble2 passenger car tires do not fully comply with Federal Motor Vehicle Safety Standard (FMVSS) No. 139, New Pneumatic Radial Tires for Light Vehicles, and part 574, Tire Identification and Recordkeeping. Hankook filed a noncompliance report dated April 23, 2020. Hankook subsequently petitioned NHTSA on May 19, 2020, for a decision that the subject noncompliance is inconsequential as it relates to motor vehicle safety. This notice announces the grant of Hankook's petition.

FOR FURTHER INFORMATION CONTACT: Jayton Lindley, Office of Vehicle Safety Compliance, the National Highway Traffic Safety Administration (NHTSA), (325) 655-0547, Jayton.Lindley@dot.gov.

SUPPLEMENTARY INFORMATION:

I. Overview: Hankook has determined that certain Hankook Ventus S1 Noble2 size 235/40R18W XL H452 tires do not fully comply with the requirements of paragraph S5.5.1(b) of FMVSS No. 139, New Pneumatic Radial Tires for Light Vehicles (49 CFR 571.139) and with the labeling requirements of Part 574.5(a) of part 574, Tire Identification and Recordkeeping (49 CFR 574). Hankook filed a noncompliance report dated April 23, 2020, pursuant to 49 CFR part 573, Defect and Noncompliance Responsibility and Reports. Hankook subsequently petitioned NHTSA on May 19, 2020, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

Notice of receipt of Hankook's petition was published with a 30-day public comment period, on March 23, 2021, in the Federal Register (86 FR 15546). No comments were received. To view the petition and all supporting documents log onto the Federal Docket Management System (FDMS) website at https://www.regulations.gov/. Then follow the online search instructions to locate docket number “NHTSA-2020-0035.”

II. Tires Involved: Approximately 109 Hankook Ventus S1 Noble2 size 235/40R18W XL H452 passenger car tires manufactured on August 17, 2019, and August 18, 2019, are potentially involved.

III. Noncompliance: Hankook explains that the noncompliance is due to a mold error in which the subject tires contain a tire identification number (TIN) with an inverted serial week and year (date code) as required by part 574.5(a) and paragraph S5.5.1(b) of FMVSS No. 139. Specifically, the date code portion of the TIN was printed upside down.

IV. Rule Requirements: Paragraph S5.5.1(b) of FMVSS No. 139, includes the requirements relevant to this petition:

• For tires manufactured on or after September 1, 2009, each tire must be labeled with the tire identification number required by 49 CFR part 574 on the intended outboard sidewall of the tire.

• Except for retreaded tires, if a tire does not have an intended outboard sidewall, the tire must be labeled with the tire identification number required by 49 CFR part 574 on one sidewall and with either the tire identification number or a partial tire identification number, containing all characters in the tire identification number except for the date code and, at the discretion of the manufacturer, any optional code, on the other sidewall.

V. Summary of Hankook's Petition: The following views and arguments presented in this section, “V. Summary of Hankook's Petition,” are the views and arguments provided by Hankook and do not reflect the views of the Agency. Hankook describes the subject noncompliance and contends that the noncompliance is inconsequential as it relates to motor vehicle safety.

In support of its petition, Hankook submits the following reasoning:

1. The relevant information remains readily identifiable,

2. the Agency has granted a similar petition in the past (See 81 FR 43708 (Jul. 5, 2016)),

3. the subject tires otherwise meet the marking and performance requirements of FMVSS No. 139, and

4. Hankook is not aware of any consumer complaints, claims, or incidents related to the subject noncompliance.

Hankook's complete petition and all supporting documents are available by logging onto the Federal Docket Management System (FDMS) website at https://www.regulations.gov and by following the online search instructions to locate the docket number as listed in the title of this notice.

Hankook argues that the subject noncompliance is inconsequential as it relates to motor vehicle safety, and that its petition to be exempted from providing notification of the noncompliance, as required by 49 U.S.C. 30118, and a remedy for the noncompliance, as required by 49 U.S.C. 30120, should be granted.

NHTSA's Analysis: The Agency agrees with the petitioner that the subject noncompliance is inconsequential to motor vehicle safety because the nature of the labeling error would not prevent the correct identification of the tires, should the tires be recalled for a performance related noncompliance. In the subject case, the date code portion of the TIN is in the correct position, however, the date code is upside down or inverted vertically. The Agency believes that despite the error, the date code is still clearly legible, will not be misunderstood, and may be oriented correctly by rotating or spinning the tire.

VII. NHTSA's Decision: In consideration of the foregoing, NHTSA finds that Hankook has met its burden of persuasion that the subject FMVSS No. 139 noncompliance in the affected tires is inconsequential to motor vehicle safety. Accordingly, Hankook's petition is hereby granted and Hankook is consequently exempted from the obligation of providing notification of, and a free remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject tires that Hankook no longer controlled at the time it determined that the noncompliance existed. However, the granting of this petition does not relieve tire distributors and dealers of the prohibitions on the sale, offer for sale, or introduction or delivery for introduction into interstate commerce of the noncompliant tires under their control after Hankook notified them that the subject noncompliance existed.

(Authority: 49 U.S.C. 30118, 30120: delegations of authority at 49 CFR 1.95 and 501.8)

Otto G. Matheke III,
Director, Office of Vehicle Safety Compliance.

[FR Doc. 2022-02459 Filed 2-4-22; 8:45 am]

BILLING CODE 4910-59-P